DEPARTMENT OF COMMERCE

International Trade Administration

Export Trade Certificate of Review

ACTION: Notice of Issuance of an Amended Export Trade Certificate of Review, Application No. 92-7A001.

SUMMARY: The Department of Commerce has issued an amendment to the Export Trade Certificate of Review granted to Aerospace Industries Association of America, Inc. (“AIA”) on April 10, 1992. Notice of issuance of the Certificate was published in the Federal Register on April 17, 1992 (57 FR 13707).

FOR FURTHER INFORMATION CONTACT: Jeffrey C. Anspacher, Director, Office of Export Trading Company Affairs, International Trade Administration, by telephone at (202) 482-5131(this is not a toll-free number), or by E-mail at oetca@ita.doc.gov.

SUPPLEMENTARY INFORMATION: Title III of the Export Trading Company Act of 1982 (15 U.S.C. Sections 4001-21) authorizes the Secretary of Commerce to issue Export Trade Certificates of Review. The regulations implementing Title III are found at 15 CFR part 325 (2003).

The Office of Export Trading Company Affairs (“OETCA”) is issuing this notice pursuant to 15 CFR 325.6(b), which requires the Department of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate

Export Trade Certificate of Review No. 92-00001, was issued to Aerospace Industries Association of America on April 10, 1992 (57 FR 13707, April 17, 1992) and previously amended on September 8, 1992 (57 FR 41920, September 14, 1992); October 8, 1993 (58 FR 53711, October 18, 1993); November 17, 1994 (59 FR 60349, November 23, 1994); June 26, 1995 (60 FR 36262, July 14, 1995); November 12, 1998 (63 FR 64061, November 18, 1998), and December 4, 2001 (66 FR 64216, December 12, 2001).

AIA's Export Trade Certificate of Review has been amended to: 1. Add each of the following companies as a new “Member” of the Certificate within the meaning of section 325.2(1) of the Regulations (15 CFR 325.2(1)): Areté Associates, Arlington, VA; AstroVision International, Inc., Bethesda, MD; B&E Tool Company, Inc., Southwick, MA; Celestica Corporation, Toronto, Ontario; Computer Sciences Corporation, El Segundo, CA; Crane Aerospace & Electronics, Lynwood, WA, (Controlling Entity: Crane Company, Stamford, CT); Dy 4 Systems Limited, Kanata, Ontario, (Controlling Entities: Force Computers, Fremont, CA, and Solectron Corporation, Milpitas, CA); EDO Corporation, New York, NY; EFW Inc., Fort Worth, TX; ESIS, Inc., San Diego, CA; Federation, Inc., Centennial, CO; HITCO Carbon Composites, Inc., Gardena, CA; JEDCO, Inc., Grand Rapids, MI; L-3 Communications Holdings, Inc., New York, NY; 3M Company, St. Paul, MN; Orbital Sciences Corporation, Dulles, VA; PerkinElmer, Inc., Wellesley, MA; Proficiency, Inc., Marlborough, MA; The Purdy Corporation, Manchester, CT; Remmele Engineering, Inc., New Brighton, MN; RTI International Metals, Inc., Niles, OH; Silicon Graphics, Inc., Mountain View, CA; SM&A, Newport Beach, CA; and Titan Corporation, San Diego, CA;

2. Delete the following companies as “Members” of the Certificate: The Aerostructures Corporation, Nashville, TN; Davis Tools, Inc., Hillsboro, OR; Fairchild Dornier Corporation, Wessling, Germany; The Fairchild Corporation, Dulles, VA, for the activities of Fairchild Fasteners, Dulles, VA; Genuity Solutions, Inc., Woburn, MA; Groen Brothers Aviation Incorporated, Salt Lake City, Utah; i2Technologies, Washington, DC; The NORDAM Group, Tulsa, OK; Robinson Helicopter Company, Torrance, CA; Space Access, LLC, Palmdale, CA; and TRW Inc., Cleveland, OH; and

3. Change the listing of the following Members: “Stellex Aerostructures, Inc., Woodland Hills, CA” to the new listing “Stellex Aerostructures, Inc., Lebanon, NJ”; “GenCorp, Sacramento, CA” to the new listing “Aerojet, Rancho Cordova, CA”; “Parker Hannifin Corporation, Cleveland, OH” to the new listing “Parker Aerospace, Irvine, CA”; “Embraer Aircraft Corporation, Brazil” to the new listing “Embraer Aircraft Holding, Inc., Fort Lauderdale, FL”; “GKN Aerospace, Inc., Reston, VA” to the new listing “GKN Aerospace Services, Farnham, Surrey, UK”; “The Boeing Company, Seattle, WA” to the new listing “Boeing Company, Chicago, IL”; “Honeywell Incorporated, Morristown, NJ” to the new listing “Honeywell Aerospace, Phoenix, AZ”; “MatrixOne, Inc., Chelmsford, MA” to the new listing “MatrixOne Inc., Westford, MA”; and “Smiths Group, PLC, London, England, UK, for the activities of Smiths Aerospace Actuation Systems, Los Angeles, Duarte, CA” to the new listing “Smiths Aerospace Actuation Systems, Duarte, CA”.

A copy of the amended certificate will be kept in the International Trade Administration's Freedom of Information Records Inspection Facility, Room 4102, U.S. Department of Commerce, 14th Street and Constitution Avenue, NW., Washington, DC 20230.

Dated: November 19, 2003.
Jeffrey A. Anspacher,
Director, Office of Export Trading, Company Affairs.

[FR Doc. 03-29339 Filed 11-24-03; 8:45 am]

BILLING CODE 3510-DR-P